DEPARTMENT OF DEFENSE

Office of the Secretary

[Docket ID: DoD-2023-OS-0056]

Proposed Collection; Comment Request

AGENCY: Office of the Under Secretary of Defense for Policy, Department of Defense (DoD).

ACTION: 60-Day information collection notice.

SUMMARY: In compliance with the Paperwork Reduction Act of 1995, the Office of the Under Secretary of Defense for Policy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 21, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Security Cooperation Agency, 2800 Defense Pentagon, Washington, DC 20301, Ms. Robyn Walker or call 703-697-9709.

SUPPLEMENTARY INFORMATION:

Title; Associated Form; and OMB Number: Security Assistance Network; OMB Control Number 0704-0555.

Needs and Uses: The Security Assistance Network (SAN) is a web-based database used to exchange Security Cooperation training information between overseas Security Cooperation Offices, Geographical Combatant Commands, Military Departments, Defense Security Cooperation Agency, DoD Schoolhouses, Regional Centers, and International Host Nation Organizations. The Security Cooperation Training Management System is a tool used by the Security Cooperation community to manage International Military Student training data.

Affected Public: Individuals or households.

Annual Burden Hours: 10,995.

Number of Respondents: 43,980.

Responses per Respondent: 1.

Annual Responses: 43,980.

Average Burden per Response: 15 minutes.

Frequency: On occasion.

The International Military Student Information (IMSI) that is collected on the SAN is used by the International Military Student Officer (IMSO) assigned to each training installation to prepare for the arrival and stay in the U.S. of the international training student. The collection of this information, in addition to the above, is for the issuance of invitational travel orders, student screening purposes, and to determine the student's likes and dislikes; his/her recreation activities; dietary restrictions; etc.

The Security Cooperation Organization/Officer (SCO) collects the biographical data from International Military Students (IMS) to populate data tables in the SC-TMS. SCOs collect this information over the phone and/or in person. SCOs may access the system via username and password or if they are active DoD (civilian, military or contractor) members through CAC and pin. Data may also be collected from automated uploads from the Regional Center Persons Activity Management System (RCPAMS) and Defense Security Assistance Management System (DSAMS) DoD systems, however majority of IMS data is input directly into SCTMS by the SCO. Using the Security Cooperation-Training Management System (SC-TMS) that is hosted on the Security Assistance Network (SANWeb), the SCO enters the collected biographical data.

The IMS trains at United States Military schoolhouses. The IMSO at the schoolhouse/training activity logs onto SC-TMS to view the IMSI data and uses it to support the IMS while during their arrival and stay for training.

Dated: June 15, 2023.
Aaron T. Siegel,
Alternate OSD Federal Register Liaison Officer, Department of Defense.

[FR Doc. 2023-13217 Filed 6-21-23; 8:45 am]

BILLING CODE 5001-06-P